DEPARTMENT OF ENERGY

Federal Energy Regulatory Commission

Notice of Scoping Meetings and Site Visit and Soliciting Scoping Comments

February 20, 2001.

Take notice that the following hydroelectric application has been filed with the Commission and is available for public inspection:

a. Type of Application: Subsequent License.

b. Project No.: 2652-007.

c. Date Filed: August 30, 2000.

d. Applicant: PacifiCorp.

e. Name of Project: Bigfork Hydroelectric Project.

f. Location: On the Swan River/Flathead Lake, near the town of Bigfork, Flathead County, Montana. The project does not occupy any fedeal lands.

g. Filed Pursuant to: Federal Power Act, 16 USC 791(a)-825(r).

h. Applicant Contact: Linda Prendergast, Project Manager, PacifiCorp, 825 N.E. Multnomah, Suite 1500, Portland, OR 97232 or telephone (503) 813-6625.

i. FERC Contact: Steve Hocking, e-mail address steve.hocking@ferc.fed.us, or telephone (202) 219-2656.

j. Deadline for filing scoping comments: April 23, 2001.

All documents (original and eight copies) should be filed with: David P. Boergers, Secretary, Federal Energy Regulatory Commission, 888 First Street, NE., Washington, DC 20426. Comments and protests may be filed electronically via the internet in lieu of paper. See, 18 CFR 385.2001(a)(1)(iii) and the instructions on the Commission's web site at http://www.ferc.fed.us/efi/doorbell.htm.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. This application is not ready for environmental analysis at this time.

l. Description of the Project: The project consists of: (1) A 12-foot-high, 300-foot-long concrete diversion dam with a 235-foot-long spillway; (2) a reservoir with 73 surface acres; (3) a water intake structure and 1-mile-long flowline; (4) a forebay structure that directs water into three steel penstocks; (5) a brick powerhouse with three turbine/generator units with a total installed capacity of 4,150 kilowatts; (6) a fish ladder on the right abutment (north end of the dam) and; (7) appurtenant facilities.

m. A copy of the application is available for inspection and reproduction at the Commission's Public Reference Room, located at 888 First Street, NE., Room 2A, Washington, DC 20426, or by calling (202) 208-1371. The application may be viewed on http://www.ferc.fed.us/rims.htm. Call (202) 208-2222 for assistance. A copy is also available for inspection and reproduction at the address in item h above.

n. Scoping Process.

The Commission intends to prepare an Environmental Assessment (EA) for the project in accordance with the National Environmental Policy Act. The EA will consider both site-specific and cumulative environmental impacts and reasonable alternatives to the proposed action.

Scoping Meetings

FERC staff will conduct one agency scoping meeting and one public scoping meeting. The agency scoping meeting will focus on resource agency and non-governmental organization concerns, while the public scoping meeting is intended primarily for public input. All interested individuals, organizations, and agencies are invited to attend one or both of the meetings, and to assist Commission staff in identifying the scope of the environmental issues that should be analyzed in the EA. The times and locations of these meetings are as follows:

Agency Scoping Meeting

Date and Time: March 22, 2001; from 10:00 to 2:00 pm

Location: Montana Department of Fish, Wildlife, and Park's offices at 490 North Meridian Road in Kalispell, Montana; phone (406) 752-5501

Public Scoping Meeting

Date and Time: March 21, 2001; from 7:00 pm to 10:00 pm

Location: Marina Cay Resort at 180 Vista Lane, Bigfork, Montana; phone (406) 837-5861

Copies of Scoping Document 1 (SD1) outlining the subject areas to be addressed in the EA were distributed to all parties on the Commission's mailing list for this project. Copies of SD1 will also be available at the scoping meeting or may be viewed on the Commission's website at http://www.ferc.fed.us/rims.htm. Call (202) 208-2222 for assistance.

Site Visit

The applicant and Commission staff will conduct a site visit to the project on March 21, 2001. We will meet at 9:00 am at the Bigfork Project powerhouse—295 Bridge Street, Bigfork, Montana. All interested individuals, organizations, and agencies are invited to attend. All participants are responsible for their own transportation to the site. Anyone with questions about the site visit should contact the applicant in item h. above.

Objectives

At the scoping meetings, Commission staff will: (1) Summarize the environmental issues tentatively identified for analysis in the EA; (2) solicit from the meeting participants all available information, especially quantified data, on the resources at issue; (3) encourage statements from experts and the public on issues that should be analyzed in the EA, including viewpoints in opposition to, or in support of, Commission staff's preliminary views; (4) determine the resource issues to be addressed in the EA; and (5) identify those issues that require a detailed analysis, as well as those issues that do not require a detailed analysis.

Procedures

Scoping meetings are recorded by a stenographer and become part of the formal record for the Commission's proceeding on the project. Individuals, organizations, and agencies with environmental expertise and concerns are encouraged to attend the meetings and to assist the staff in defining and clarifying the issues to be addressed in the EA.

David P. Boergers,
Secretary.

[FR Doc. 01-4573 Filed 2-23-01; 8:45 am]

BILLING CODE 6717-01-M